COMMITTEE FOR PURCHASE FROM PEOPLE WHO ARE BLIND OR SEVERELY DISABLED

Procurement List; Proposed Additions and Deletions

AGENCY: Committee for Purchase from People Who Are Blind or Severely Disabled.

ACTION: Proposed Additions to and Deletions from the Procurement List.

SUMMARY: The Committee is proposing to add a service to the Procurement List that will be furnished by nonprofit agencies employing persons who are blind or have other severe disabilities, and delete product(s) and service(s) previously furnished by such agencies.

DATES: Comments must be received on or before: February 12, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Custodial Services

Mandatory for: Department of Homeland Security, FEMA, Fort Shafter, HI

Designated Source of Supply: Work Now Hawaii, Honolulu, HI

Contracting Activity: FEDERAL EMERGENCY MANAGEMENT AGENCY, REGION 9: EMERGENCY PREPAREDNESS AN

Deletions

The following product(s) and service(s) are proposed for deletion from the Procurement List:

Product(s)

NSN(s)—Product Name(s): 6645-01-584-0892—Clock, Mini Desk, Rosewood

Designated Source of Supply: Tarrant County Association for the Blind, Fort Worth, TX

Contracting Activity: GSA/FAS ADMIN SVCS ACQUISITION BR(2, NEW YORK, NY

Service(s)

Service Type: Custodial Services

Mandatory for: Veterans Affairs Nursing Home Care Unit, Null, Pueblo, CO

Designated Source of Supply: Pueblo Diversified Industries, Inc., Pueblo, CO

Contracting Activity: VETERANS AFFAIRS, DEPARTMENT OF, 259-NETWORK CONTRACT OFFICE 19

Service Type: Janitorial/Custodial

Mandatory for: Department of Veterans Affairs, Camp Hill Community Based Outpatient Clinic, 25 N 32nd Street, Camp Hill, PA

Designated Source of Supply: Goodwill Services, Inc., Harrisburg, PA

Contracting Activity: VETERANS AFFAIRS, DEPARTMENT OF, 595-LEBANON

Michael R. Jurkowski,
Acting Director, Business Operations.

[FR Doc. 2023-00615 Filed 1-12-23; 8:45 am]

BILLING CODE 6353-01-P